DEPARTMENT OF AGRICULTURE

Forest Service

Proposed New Recreation Fee Sites

AGENCY: Forest Service, Agriculture (USDA).

ACTION: Notice.

SUMMARY: The Willamette National Forest is proposing to establish several new recreation fee sites. Recreation fee revenues collected at the new recreation fee sites would be used for operation, maintenance, and improvement of the sites. An analysis of nearby recreation fee sites with similar amenities shows the recreation fees that would be charged at the new recreation fee sites are reasonable and typical of similar recreation fee sites in the area.

DATES: If approved, the new recreation fees would be implemented no earlier than six months following the publication of this notice in the Federal Register.

ADDRESSES: Willamette National Forest, 3106 Pierce Parkway, Suite D, Springfield, OR 97477.

FOR FURTHER INFORMATION CONTACT: Matt Peterson, Recreation Program Manager, 541-225-6421 or matthew.peterson1@usda.gov.

SUPPLEMENTARY INFORMATION: The Federal Lands Recreation Enhancement Act (16 U.S.C. 6803(b)) requires the Forest Service to publish a six-month advance notice in the Federal Register of establishment of new recreation fee sites. In accordance with Forest Service Handbook 2309.13, chapter 30, the Forest Service will publish the proposed new recreation fee sites in local newspapers and other local publications for public comment. Most of the new recreation fee revenues would be spent where they are collected to enhance the visitor experience at the new recreation fee sites.

An expanded amenity recreation fee of $16 per night and $6 per extra vehicle would be charged for the Daly Lake, Scott Lake, Harralson Horse Camp, and Skookum Campgrounds. In addition, an expanded amenity recreation fee of $85 per night would be charged for rental of Marion Forks Guard Station and Gold Lake Cabin.

Expenditures from recreation fee revenues collected at the new recreation fee sites would enhance recreation opportunities, improve customer service, and address maintenance needs. Once public involvement is complete, these new recreation fees will be reviewed by a Resource Advisory Committee prior to a final decision and implementation. Reservations for Daly Lake, Scott Lake, Harralson Horse Camp, and Skookum Campgrounds, Marion Forks Guard Station, and Gold Lake Cabin could be made online at www.recreation.gov or by calling 877-444-6777. Reservations would cost $8.00 per reservation.

Dated: November 21, 2023.
Troy Heithecker,
Associate Deputy Chief, National Forest System.

[FR Doc. 2023-26181 Filed 11-27-23; 8:45 am]

BILLING CODE 3411-15-P